DEPARTMENT OF TRANSPORTATION

Federal Aviation Administration

Acceptance of Noise Exposure Map Notice for Oakland County International Airport, Pontiac, Michigan

AGENCY: Federal Aviation Administration (FAA), DOT.

ACTION: Notice.

SUMMARY: The FAA announces its determination that the noise exposure maps submitted by Oakland County, for the Oakland County International Airport under the provisions of 49 U.S.C. 47501 et. seq. (formerly the Aviation Safety and Noise Abatement Act, hereinafter referred to as “the Act”) and 14 CFR Part 150 (hereinafter referred to as “Part 150”) are in compliance with applicable requirements.

DATES: This notice is effective [insert date upon publication in Federal Register], and is applicable beginning April 24, 2013.

FOR FURTHER INFORMATION CONTACT: Ms. Katherine S. Delaney, Federal Aviation Administration, Detroit Airports District Office, 11677 South Wayne Road, Romulus, MI 48174; Phone—(734) 229-2900; or Email—Katherine.S.Delaney@faa.gov.

SUPPLEMENTARY INFORMATION: This notice announces the FAA finds the noise exposure maps submitted for Oakland County International Airport are in compliance with applicable requirements of Part 150, effective April 23, 2013. Under 49 U.S.C. 47503 of the Act, an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Part 150, promulgated pursuant to the Act, may submit a noise compatibility program for FAA approval which sets forth the measures the operator has taken or proposes to take to reduce existing non-compatible uses and prevent the introduction of additional non-compatible uses.

The FAA has completed its review of the noise exposure maps and accompanying documentation submitted by Oakland County. The documentation that constitutes the “Noise Exposure Maps” as defined in section 150.7 of Part 150 includes: The existing NEM is located in Figure D5, Existing Noise Exposure Map, 2010 and the future NEM is located in Figure D6 Future Noise Exposure Map, 2021. The information gathered and analyzed to generate the NEMs is located in various sections of the report. Figure A2, Existing Airport Layout with a narrative description on Page A.3 applies to both the existing and future NEM. The following references were used to develop Figure D5, Existing Noise Exposure Map, 2010: Chapter B, Forecast of Aviation Activity, including a summary table of aircraft operations in Table B1, Summary of Annual Aircraft Operations Forecast (TAF plus Nighttime Operations); Aircraft categories and fleet mix as detailed in Table B3, Summary of Operations by Aircraft Category, Recent Historic and Forecast; Chapter D, Existing and Future Baseline Noise Conditions, with detail described in Table D2, Aircraft Fleet Mix Assumptions for Existing Conditions, 2010; Table D3, Summary of Hours of Nighttime Operations by Category, Year 2010; Table D4, Percentage Runway Utilization, Table D5, Runway Utilization By Category of Aircraft; Figure D3, INM Flight Tracks, West Flow, Figure D4, INM Flight Tracks, East Flow.

The Future NEM is located in Figure D6, Future Noise Exposure Map, 2021. The following references were used to develop Figure D6, Future Noise Exposure Map, 2021: Table D6, Operations by Aircraft Category—2021 Baseline Period and Table D7, Aircraft Fleet Mix Assumptions for Future Conditions, 2021. The Flight Tracks depicted in Figure D3, INM Flight Tracks, West Flow and Figure D4, INM Flight Tracks, East Flow were used for both existing and future baseline conditions. The FAA has determined that these noise exposure maps and accompanying documentation are in compliance with applicable requirements. This determination is effective on April 24, 2013.

FAA's determination on an airport operator's noise exposure maps is limited to a finding that the maps were developed in accordance with the procedures contained in Appendix A of Part 150. Such determination does not constitute approval of the applicant's data, information or plans, or a commitment to approve a noise compatibility program or to fund the implementation of that program.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of Part 150, that the statutorily required consultation has been accomplished.

Copies of the full noise exposure map documentation and of the FAA's evaluation of the maps are available for examination at the following locations. Prior arrangements are required to visit the Detroit Airports District Office.

Detroit Airports District Office, 11677 South Wayne Road, Suite 107, Romulus, MI 48174, 8:00-4:30 p.m.

Oakland County International Airport, 6500 Highland Road, Waterford, MI 48327-1649, 8:30-5:00 p.m.

Questions may be directed to the individual named above under the heading FOR FURTHER INFORMATION CONTACT.

Issued in Romulus, Michigan, on April 24, 2013.
John L. Mayfield, Jr.,
Manager, Detroit Airports District Office.

[FR Doc. 2013-10282 Filed 4-30-13; 8:45 am]

BILLING CODE 4910-13-P